ENVIRONMENTAL PROTECTION AGENCY

40 CFR Part 52

[TN-186; TN-187; TN-202; TN-203-200207b; FRL-7270-5]

Approval and Promulgation of Implementation Plans Tennessee: Approval of Revisions to Tennessee Implementation Plan

AGENCY: Environmental Protection Agency (EPA).

ACTION: Proposed rule.

SUMMARY: The EPA proposes to approve the State implementation plan (SIP) revisions submitted by the State of Tennessee for the purpose of revising the regulations for construction and operating permits, general provisions and applicability, and conflict of interest in the Tennessee SIP. In the Final Rules section of this Federal Register, the EPA is approving the State's SIP revision as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before September 30, 2002.

ADDRESSES: All comments should be addressed to Steven M. Scofield at the EPA, Region 4 Air Planning Branch, 61 Forsyth Street, SW., Atlanta, Georgia 30303-8960.

Copies of the State submittals are available at the following addresses for inspection during normal business hours:

Air and Radiation Docket and Information Center (Air Docket 6102), U.S. Environmental Protection Agency, 401 M Street, SW., Washington, DC 20460.

Environmental Protection Agency, Region 4 Air Planning Branch, 61 Forsyth Street, SW., Atlanta, Georgia 30303-8960. Steven M. Scofield, 404/562-9034.

Division of Air Pollution Control, Tennessee Department of Environment and Conservation, L & C Annex, 9th Floor, 401 Church Street, Nashville, Tennessee 37243-1531. 615/532-0554.

FURTHER INFORMATION CONTACT: Steven M. Scofield; Regulatory Development Section; Air Planning Branch; Air, Pesticides and Toxics Management Division; U.S. Environmental Protection Agency Region 4; 61 Forsyth Street, SW.; Atlanta, Georgia 30303-8960. Mr. Scofield can also be reached by phone at (404) 562-9034 or by electronic mail at scofield.steve@epa.gov.

SUPPLEMENTARY INFORMATION: For additional information see the direct final rule which is published in the Final Rules section of this Federal Register.

Dated: July 30, 2002.
J.I. Palmer, Jr.,
Regional Administrator, Region 4.

[FR Doc. 02-22090 Filed 8-28-02; 8:45 am]

BILLING CODE 6560-50-P